DEPARTMENT OF AGRICULTURE

Animal and Plant Health Inspection Service

[Docket No. APHIS-2017-0053]

Availability of an Environmental Assessment for the Biological Control of Swallow-Worts

AGENCY: Animal and Plant Health Inspection Service, USDA.

ACTION: Notice of availability and request for comments.

SUMMARY: We are advising the public that the Animal and Plant Health Inspection Service has prepared a draft environmental assessment relative to the control of swallow-worts (Vincetoxicum nigrum and Vincetoxicum rossicum). The environmental assessment considers the effects of, and alternatives to, the field release of a leaf-feeding moth, Hypena opulenta, into the continental United States for use as a biological control agent to reduce the severity of swallow-wort infestations. We are making the environmental assessment available to the public for review and comment.

DATES: We will consider all comments that we receive on or before August 14, 2017.

ADDRESSES: You may submit comments by either of the following methods:

• Federal eRulemaking Portal: Go to http://www.regulations.gov/#!docketDetail;D=APHIS-2017-0053.

• Postal Mail/Commercial Delivery: Send your comment to Docket No. APHIS-2017-0053, Regulatory Analysis and Development, PPD, APHIS, Station 3A-03.8, 4700 River Road, Unit 118, Riverdale, MD 20737-1238.

Supporting documents and any comments we receive on this docket may be viewed at http://www.regulations.gov/#!docketDetail;D=APHIS-2017-0053 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327, email: Colin.Stewart@aphis.usda.gov.

SUPPLEMENTARY INFORMATION: Two species of swallow-wort (Vincetoxicum nigrum and Vincetoxicum rossicum), native to Mediterranean regions of Europe (V. nigrum) and Ukraine and southeastern Russia (V. rossicum), were first documented in the United States in the late nineteenth century and are now widely distributed along the northeast Atlantic coast and in Ontario and Quebec in Canada, as well as in upper Midwestern regions of the United States. Swallow-worts are long-lived vines that overwinter as seeds or rootstalks, and they outcompete native plants for resources while often also forming dense monocultures in a variety of habitats. Swallow-wort invasions in primarily upland habitats including, but not restricted to, pastures, old fields, hillsides, shores, flood plains, roadsides, and forest margins, pose a major threat to native species diversity and ecosystem functioning and negatively affect farming practices, livestock, and ornamental landscapes. The Animal and Plant Health Inspection Service (APHIS) is proposing to issue permits for the field release of a leaf-feeding moth, Hypena opulenta, into the continental United States to reduce the severity of swallow-wort infestations.

APHIS' review and analysis of the proposed action are documented in detail in a draft environmental assessment (EA) entitled “Field release of the leaf-feeding moth, Hypena opulenta (Christoph) (Lepidoptera: Noctuidae), for classical biological control of swallow-worts, Vincetoxicum nigrum (L.) Moench and V. rossicum (Kleopow) Barbarich (Gentianales: Apocyanceae), in the contiguous United States” (June 2017). We are making this EA available to the public for review and comment. We will consider all comments that we receive on or before the date listed under the heading DATES at the beginning of this notice.

The EA may be viewed on the Regulations.gov Web site or in our reading room (see ADDRESSES above for a link to Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 7th day of July 2017.
Michael C. Gregoire,
Acting Administrator, Animal and Plant Health Inspection Service.

[FR Doc. 2017-14695 Filed 7-12-17; 8:45 am]

BILLING CODE 3410-34-P